DEPARTMENT OF VETERANS AFFAIRS

Biomedical Laboratory Research and Development Service, Special Emphasis Panel—Amyotrophic Lateral Sclerosis (ALS) Brain Bank, Notice of Meeting

The Department of Veterans Affairs (VA) gives notice under the Federal Advisory Committee Act, 5 U.S.C. App., that the Special Emphasis Panel—ALS Brain Bank will meet on July 23, 2013, from 9 a.m. until 4 p.m. in Building 57, Room 0BA-049 Diagnostics, at the Southern Arizona VA Healthcare System, 3601 South 6th Avenue, Tucson, Arizona. The meeting will convene at 9 a.m. and end at 4 p.m. The panel meeting will be open to the public for approximately one-half hour at the start of the meeting to discuss the general status of the project. The remaining portion of the meeting will be closed to the public for the review, discussion, and evaluation of the research project to be performed for VA. The closed portion of the meeting involves discussion, examination, reference to staff and consultant critiques of the research proposal. As provided by subsection 10(d) of Public Law 92-463, as amended, closing portions of a panel meeting is in accordance with 5 U.S.C., 552b(c) (6) and (9)(B).

The purpose of this Special Emphasis Panel is to review the VA ALS Brain Bank for its continued funding. The VA ALS Brain Bank is a project of high programmatic importance to VA. The Special Emphasis Panel will review activities related to the ALS Brain Bank including the significance of the bank, the approaches used for operation of the bank, and other key areas such as innovation, environment, feasibility, and protection of human subjects.

No time will be allocated at this meeting for receiving oral presentations from the public. Those who plan to attend or would like to obtain a copy of minutes of the panel meeting and roster of the participants of the panel should contact Dr. Alex Chiu, Designated Federal Officer, Department of Veterans Affairs, 810 Vermont Avenue NW., Washington, DC, or by email at alex.chiu@va.gov. Any member of the public wishing to attend the meeting or wishing further information should contact Dr. Chiu at (202) 443-5672.

Dated: July 12, 2013.
By Direction of the Secretary.
Vivian Drake,
Committee Management Officer.

[FR Doc. 2013-17206 Filed 7-17-13; 8:45 am]

BILLING CODE P